DEPARTMENT OF TRANSPORTATION

Federal Transit Administration

Notice for Ferryboat Operators that Receive Federal Transit Funds.

ACTION: Notice of interpretation.

SUMMARY: The Federal Transit Administration (FTA) is eliminating duplicative controlled substance and alcohol misuse testing requirements for ferry operations that receive Federal transit funding under 49 U.S.C. 5307, 5309, or 5311. Those ferry operations that are simultaneously subject to FTA drug and alcohol regulations at 49 CFR part 655 and U.S. Coast Guard (USCG) chemical testing regulations at 46 CFR parts 4 and 16 and alcohol testing requirements at 46 CFR subpart 4.06 and 33 CFR part 95 will be deemed in concurrent compliance with the testing requirements of 49 CFR part 655 when they comply with the USCG's chemical and alcohol testing requirements. However, those ferry operations will remain subject to FTA's random alcohol testing requirement because the USCG does not have a similar requirement.

DATES: This notice is effective April 22, 2002.

FOR FURTHER INFORMATION PLEASE CONTACT: For questions regarding this notice, contact Mark Snider, Office of Safety and Security, telephone 202-366-1080, fax 202-366-7951, or Bruce Walker, Office of the Chief Counsel, telephone 202-366-4011, fax 200-366-3809, FTA, 400 Seventh Street, SW., Washington, DC 20590.

SUPPLEMENTARY INFORMATION: FTA and the USCG are modal administrations of the U.S. Department of Transportation (DOT) and each is required to issue drug and alcohol regulations with which ferryboat systems must comply. Many of the testing requirements are substantially similar; however, the USCG does not have a requirement for random alcohol testing. Since the USCG has oversight over maritime operations, including ferryboats, it is prudent to eliminate duplicative drug and alcohol testing requirements by two DOT modal administrations.

FTA has determined that ferry operations that receive Federal transit funds and comply with the USCG chemical testing and alcohol testing requirements at 46 CFR parts 4 and 16, and 33 CFR part 95 will be in concurrent compliance with the controlled substance testing requirements of 49 CFR part 655. The ferry operators will also be in concurrent compliance with most of FTA's alcohol testing requirements; however, they are required to continue to comply with FTA's random alcohol testing requirements under 49 CFR part 655.45 because random alcohol testing is a statutory requirement for FTA recipients, and the USCG does not have a substantially similar provision.

Failure to comply with the USCG's chemical testing regulations may result in an FTA determination of noncompliance with 49 CFR part 655, which can lead to the suspension of eligibility for Federal transit funding. Subpart G of 49 CFR part 655 will also be applicable to a covered employee (1) with a verified positive drug test result, (2) who has a confirmed alcohol test result of 0.04 or greater, or (3) who refuses to submit to a test. It is important to note that FTA's interpretive guidance permits the relevant Coast Guard testing requirements to satisfy FTA testing requirements; however, FTA is not waiving regulatory authority over ferry operators that receive Federal transit funds.

Issued on: April 14, 2002.
Jennifer L. Dorn,
Administrator, Federal Transit Administration.

[FR Doc. 02-9776 Filed 4-19-02; 8:45 am]

BILLING CODE 4910-57-P